DEPARTMENT OF THE INTERIOR

National Park Service

[NPS-WASO-NAGPRA-NPS0039602; PPWOCRADN0-PCU00RP14.R50000]

Notice of Inventory Completion: University of Tennessee, McClung Museum of Natural History & Culture, Knoxville, TN

AGENCY: National Park Service, Interior.

ACTION: Notice.

SUMMARY: In accordance with the Native American Graves Protection and Repatriation Act (NAGPRA), the University of Tennessee, McClung Museum of Natural History & Culture (UTK) has completed an inventory of human remains and associated funerary objects and has determined that there is a cultural affiliation between the human remains and associated funerary objects and Indian Tribes or Native Hawaiian organizations in this notice.

DATES: Repatriation of the human remains and associated funerary objects in this notice may occur on or after April 18, 2025.

ADDRESSES: Dr. Ellen Lofaro, University of Tennessee, Office of Repatriation, 5723 Middlebrook Pike, Knoxville, TN 37921-6053, telephone (865) 974-3370, email nagpra@utk.edu.

SUPPLEMENTARY INFORMATION: This notice is published as part of the National Park Service's administrative responsibilities under NAGPRA. The determinations in this notice are the sole responsibility of UTK, and additional information on the determinations in this notice, including the results of consultation, can be found in their inventory or related records. The National Park Service is not responsible for the determinations in this notice.

Abstract of Information Available

Human remains representing, at least, five individuals have been identified from 40BT2, the Prater Site. The 64 lots of associated funerary objects are three lots of beads, one lot of botanical material, 26 lots of ceramics, 18 lots of faunal material, 13 lots of lithics, two lots of pipes, and one Dog Burial. The Prater site is located along the Tennessee River in Blount County, TN. The site was excavated between February and March 1942 by Works Progress Administration archaeologists Chandler Rowe and Andrew Whiteford, affiliated with UTK at the time. Original reports from Rowe and Whiteford and subsequent review of cultural items suggest a multicomponent Middle/Late Woodland through Mississippian occupation (c. 200-900 CE through 1600 CE). All human remains and cultural items were brought to UTK after removal and were housed at the McClung Museum of Natural History and Culture until they were transferred recently to the Office of Repatriation (OR). Some of the human remains were “repaired” with glue, but to our knowledge, no hazardous substances were used to treat any of the remains or objects.

Human remains representing, at least, seven individuals have been identified from 40BT7, the Chilhowee Site. The 84 lots of associated funerary objects are seven lots of beads, seven lots of botanical material, 23 lots of ceramics, 11 lots of faunal material, two lots of historic materials, 21 lots of lithics, one lot of ochre, four lots of pipes, and eight lots of soils. Also known as the Samuel McMurray site, 40BT7 is located on the Little Tennessee River in Blount County, TN. The site was inundated following the construction of the Chilhowee Dam after 1957. All human remains described in this notice were removed between 1956 and 1957 by amateur archaeologists James H. Polhemus and R. Myers, both affiliated with the Tennessee Archaeological Society (TAS). The cultural items described here were removed by TAS members. The Chilhowee site was first disturbed in the late 19th century by E.O. Dunning (Peabody Museum) and Cyrus Thomas (Smithsonian), who noted the presence of Mounds and a Stone Box cemetery. Historical information and maps suggest the Chilhowee site is the location of a Historic Overhill Cherokee village of the same name. Original reports from Polhemus and Myers and later review of cultural items indicate Mississippian and Historic Cherokee occupations of the site. Recent work dating beads removed from the site suggest the site was occupied beginning sometime between 1630 and 1680 CE and ending in the late 18th century. Ceramic styles found at the site suggest a possible earlier Mississippian component ca. 1100 CE. All human remains and cultural items were brought to UTK after removal and were housed at the McClung Museum of Natural History and Culture until they were transferred recently to the OR. Some of the human remains were “repaired” with glue, but to our knowledge, no hazardous substances were used to treat any of the remains or objects.

Human remains representing, at least, 56 individuals have been identified from 40BT8, the Tallassee Site. The 244 lots of associated funerary objects are 24 lots of beads, 17 lots of botanical material, 64 lots of ceramics, 52 lots of faunal material, 17 lots of historic materials, 44 lots of lithics, four lots of metals, two lots of ochre, nine lots of pipes, six lots of soils, and five Dog Burials. Also known as Hardin Farm, site 40BT8 is located along the Little Tennessee River in Blount County, TN. The Tallassee site was also inundated by the construction of the Chilhowee Dam. All human remains and most cultural items were removed prior to the construction of the dam as part of a contract between the Aluminum Company of America (Alcoa) and UTK/TAS to conduct “salvage” excavations prior to inundating the area. UTK faculty T.M.N. Lewis and Madeline Kneberg supervised TAS excavations between 1955 and 1957. Additional materials were removed during post-2002 visits to the site. All human remains and cultural items were brought to UTK and were housed at the McClung Museum of Natural History until they were recently transferred to the OR. Some of the human remains were “repaired” with glue, but to our knowledge, no hazardous substances were used to treat any of the remains or objects.

Cultural affiliation between these human remains and funerary objects and the Indian Tribes listed in this notice was established via anthropological information, archaeological information, geographical information, historical information, linguistic information, Native American traditional knowledge, and oral tradition. Blount County, TN is part of the aboriginal lands of Cherokee Nation; Eastern Band of Cherokee Indians; The Muscogee (Creek) Nation; The Seminole Nation of Oklahoma; and Thlopthlocco Tribal Town.

Cultural Affiliation

Based on the information available and the results of consultation, cultural affiliation is clearly identified by the information available about the human remains and associated funerary objects described in this notice.

Determinations

UTK has determined that:

• The human remains described in this notice represent the physical remains of 68 individuals of Native American ancestry.

• The 392 lots of objects described in this notice are reasonably believed to have been placed intentionally with or near individual human remains at the time of death or later as part of the death rite or ceremony.

• There is a connection between the human remains and associated funerary objects described in this notice and the Cherokee Nation; Eastern Band of Cherokee Indians; The Muscogee (Creek) Nation; The Seminole Nation of Oklahoma; and the Thlopthlocco Tribal Town.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after April 18, 2025. If competing requests for repatriation are received, UTK and TDEC-DOA must determine the most appropriate requestor prior to repatriation. Requests for joint repatriation of the human remains and associated funerary objects are considered a single request and not competing requests. UTK and TDEC-DOA are responsible for sending a copy of this notice to the Indian Tribes and Native Hawaiian organizations identified in this notice.

Authority: Native American Graves Protection and Repatriation Act, 25 U.S.C. 3003, and the implementing regulations, 43 CFR 10.10.

Dated: February 25, 2025.
Melanie O'Brien,
Manager, National NAGPRA Program.

[FR Doc. 2025-04636 Filed 3-18-25; 8:45 am]

BILLING CODE 4312-52-P